DEPARTMENT OF TRANSPORTATION

Surface Transportation Board

[STB Finance Docket No. 34866]

Union Pacific Railroad Company—Temporary Trackage Rights Exemption—the Kansas City Southern Railway Company

Pursuant to a written trackage rights agreement dated April 12, 2006, the Kansas City Southern Railway Company (KCS) has agreed to grant temporary overhead trackage rights to Union Pacific Railroad Company (UP) between milepost 482.0 on KCS's Mexico Subdivision at Kansas City, MO, and milepost 252.1 on KCS's East St. Louis Terminal Subdivision at Godfrey, IL, a distance of approximately 285 miles.

The transaction was scheduled to be consummated on April 19, 2006, and the temporary trackage rights are intended to expire on or about July 31, 2006. The temporary trackage rights will facilitate maintenance work on UP lines.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34866, must be filed with the Surface Transportation Board, 1925 K Street, NW., Washington, DC 20423-0001. In addition, a copy of each pleading must be served on Gabriel S. Meyer, Assistant General Attorney, 1400 Douglas Street, STOP 1580, Omaha, NE 68179.

Board decisions and notices are available on our Web site at http://www.stb.dot.gov.

Decided: April 24, 2006.
By the Board, David M. Konschnik, Director, Office of Proceedings.
Vernon A. Williams,
Secretary.

[FR Doc. E6-6534 Filed 5-1-06; 8:45 am]

BILLING CODE 4915-01-P